DEPARTMENT OF TRANSPORTATION

Federal Aviation Administration

[Docket No. FAA-2025-2317]

Agency Information Collection Activities: Requests for Comments; Clearance of a New or Renewed Approval of Information Collection: Bird/Other Wildlife Strike Report

AGENCY: Federal Aviation Administration (FAA), DOT.

ACTION: Notice and request for comments.

SUMMARY: In accordance with the Paperwork Reduction Act of 1995, FAA invites public comments about our intention to request the Office of Management and Budget (OMB) approval to renew an information collection. The collection involves voluntary reporting of bird/other wildlife strike information following a wildlife strike incident with aircraft. This data becomes part of the publicly available National Wildlife Strike Database. The information to be collected is necessary because it provides critical information that allows the FAA to determine high-risk species, track national trends, evaluate the FAA's wildlife hazard management program, and monitor compliance with Title 14 Code of Federal Regulations, Part 139, Section 139.337—Wildlife Hazard Management. Additionally, this essential information allows engine and airframe manufacturers to evaluate the effectiveness of aircraft components. It also helps airports identify and mitigate hazardous species and the location of wildlife attractants, affords a better understanding of strike dynamics, and provides key metrics for an airport to evaluate the effectiveness of its wildlife management program.

DATES: Written comments should be submitted by November 24, 2025.

ADDRESSES: Please send written comments:

By Electronic Docket: www.regulations.gov (Enter docket number into search field).

By mail: John Weller, 800 Independence Avenue SW, AAS-300, Washington, DC 20591.

FOR FURTHER INFORMATION CONTACT: John Weller by email at: john.weller@faa.gov; phone: (202) 267-3778.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0045.

Title: Bird/Other Wildlife Strike Report.

Form Numbers: 5200-7.

Type of Review: This is a renewal of an information collection.

Background: 14 CFR 139.337, Wildlife Hazard Management, requires the FAA to collect wildlife strike data to develop standards and monitor hazards to aviation. Data identify wildlife strike control requirements and provide in-service data on aircraft component failure. Pilots, airport operations staff, aircraft and airport maintenance personnel, air traffic controllers, wildlife biologists, and anyone else having knowledge of a strike can report incidents to the FAA, primarily using the online version of FAA Form 5200-7. The data becomes part of the publicly available National Wildlife Strike Database used to enhance safety by airports, airlines, engine and airframe manufacturers, and the FAA.

Respondents: Approximately 19,739 pilots, airport operations staff, aircraft and airport maintenance personnel, air traffic controllers, wildlife biologists, and others with knowledge of a strike.

Frequency: As needed.

Estimated Average Burden per Response: 5 Minutes.

Estimated Total Annual Burden: 1,645 Hours.

Issued in Washington, DC, on September 22, 2025.
Anthony M. Butters,
Manager, Airport Safety Policy Branch, Office of Airports Safety and Standards.

[FR Doc. 2025-18486 Filed 9-23-25; 8:45 am]

BILLING CODE 4910-13-P